DEPARTMENT OF COMMERCE

National Oceanic and Atmospheric Administration

RIN 0648-AY12

Mid-Atlantic Fishery Management Council; Spiny Dogfish Amendment 3 Scoping Process

AGENCY: National Marine Fisheries Service (NMFS), National Oceanic and Atmospheric Administration (NOAA), Commerce.

ACTION: Notice of intent to prepare an environmental impact statement (EIS); notice of public scoping meetings; requests for comments.

SUMMARY: The New England and Mid-Atlantic Fishery Management Councils (Councils) announce their intention to prepare, in cooperation with NMFS, an EIS in accordance with the National Environmental Policy Act to assess potential effects on the human environment of alternative measures to address several issues regarding the Spiny Dogfish Fishery Management Plan.

This notice announces a public process for determining the scope of issues to be addressed, and for identifying the significant issues related to amending the plan. This notice is to alert the interested public of the scoping process, the development of the Draft EIS, and to provide for public participation in that process.

DATES: Written comments must be received on or before 5 p.m., EST, on September 4, 2009. Four public scoping meetings will be held during this comment period. See Supplementary Information for dates, times, and locations.

ADDRESSES: Written comments may be sent by any of the following methods:

• E-mail to the following address: dogfish3@noaa.gov. Please note on your correspondence and in the subject line of e-mail comments the following identifier: “Spiny Dogfish Amendment 3 Scoping Comments.”;

• Mail or hand deliver to Daniel T. Furlong, Executive Director, Mid-Atlantic Fishery Management Council, Room 2115 Federal Building, 300 South New Street, Dover, Delaware 19904-6790. Mark the outside of the envelope “Spiny Dogfish Amendment 3 Scoping Comments”; or

• Fax to (302) 674-5399.

The scoping document may also be obtained from the Council office at the previously provided address, or by request to the Council by telephone (302) 674-2331, or via the Internet at http://www.mafmc.org/mid-atlantic/comments/comments.htm.

Comments may also be provided verbally at any of the three public scoping meetings. See Supplementary Information for dates, times, and locations.

FOR FURTHER INFORMATION CONTACT: Mr. Daniel T. Furlong, Mid-Atlantic Fishery Management Council, Room 2115 Federal Building, 300 S. New St., Dover, DE 19904-6790, (telephone 302-674-2331).

SUPPLEMENTARY INFORMATION:

Meetings

Four scoping meetings to facilitate public comment will be held on the following dates and locations:

1. August 10, 2009, 7:00 p.m., Virginia Marine Fisheries Commission, 2600 Building Meeting Room, 2600 Washington Ave., Newport News, VA 23607;

2. August 11, 2009, 7:00 p.m., Ocean County Administration Building, Public Hearing Room #119, 101 Hooper Ave, Toms River, NJ 08754;

3. August 12, 2009, 6:30 p.m., New Hampshire Urban Forestry Center, 45 Elwyn Rd, Portsmouth, NH 03801;

4. August 13, 2009, 7:00 p.m., Radisson Plymouth, 180 Water Street, Plymouth, MA 02360.

Special Accommodations

These meetings are physically accessible to people with disabilities. Requests for sign language interpretation or other auxiliary aid should be directed to M. Jan Bryan (302-674-2331 ext 18) at least 5 days prior to the meeting date.

Issues Identified for Discussion Under this Amendment

(1) Research-Set-Aside (RSA) provision: Currently there is no option for allocating a portion of the spiny dogfish quota to support research projects. The Councils are considering adding an RSA provision to the FMP.

(2) Commercial Quota Allocation Alternatives: Currently, the commercial quota for spiny dogfish is allocated seasonally into two periods in the fishing year. Period 1 (May 1-Oct 31) is allocated 57.9 percent of the quota and Period 2 (Nov 1-Apr 30) is allocated 42.1 percent of the quota. The Councils are considering alternative allocation (i.e., geographic) schemes for the Federal quota.

(3) Specifying the spiny dogfish quota and/or trip limits by sex: The Councils are considering modifications to the FMP that would allow for sex-specific annual specification of spiny dogfish commercial quota and/or trip limits.

(4) Limited Access Spiny Dogfish Permit: Federal spiny dogfish permits are currently available to all vessels. The Councils are considering modifying the Federal permit to make it a limited access permit. It is possible that an incidental catch permit would also be established that would be open access.

(5) Recreational Spiny Dogfish Fishery: To the extent that recreationally caught spiny dogfish are retained, that component of the overall fishery is not acknowledged in the FMP. The Councils are considering adding management measures for the recreational fishery to the FMP.

Following the scoping process, the Councils may develop additional approaches and alternatives (including No Action) to address these issues, consistent with the Magnuson-Stevens Fishery Conservation and Management Act. The above issues under consideration are described in greater detail in the scoping document itself; copies may be obtained from the Council (see ADDRESSES) or via the Internet at http://www.mafmc.org /comments/comments.htm.

Authority: 16 U.S.C. 1801 et seq.

Dated: July 30, 2009.
Kristen C. Koch,
Acting Director, Office of Sustainable Fisheries, National Marine Fisheries Service.

[FR Doc. E9-18751 Filed 8-4-09; 8:45 am]

BILLING CODE 3510-22-S